DEPARTMENT OF THE INTERIOR

Fish and Wildlife Service

[FWS-R4-R-2008-N0090; 40136-1265-0000-S3]

Shell Keys National Wildlife Refuge, Iberia Parish, LA

AGENCY: Fish and Wildlife Service, Interior.

ACTION: Notice of availability: Draft comprehensive conservation plan and environmental assessment; request for comments.

SUMMARY: We, the U.S. Fish and Wildlife Service (Service) announce the availability of a draft comprehensive conservation plan and environmental assessment (Draft CCP/EA) for Shell Keys National Wildlife Refuge for public review and comment. In this Draft CCP/EA, we describe the alternatives, including our proposed action, to manage this refuge for the 15 years following approval of the Final CCP.

DATES: To ensure consideration, we must receive your written comments by July 14, 2008.

ADDRESSES: To provide written comments or to obtain a copy of the Draft CCP/EA, please contact Tina Chouinard, Refuge Planner, U.S. Fish and Wildlife Service, 6772 Highway 76 South, Stanton, TN 38069. The Draft CCP/EA may also be accessed and downloaded from the Service's Internet site: http://www.fws/southeast/planning.

FOR FURTHER INFORMATION CONTACT: Tina Chouinard; Telephone: 731/780-8208; Fax: 731/772-7839; e-mail: tina_chouinard@fws.gov.

SUPPLEMENTARY INFORMATION:

Introduction

With this notice, we continue the CCP process for Shell Keys National Wildlife Refuge. We started this process through a notice in the Federal Register on June 27, 2007 (72 FR 35255).

Shell Keys National Wildlife Refuge is part of the Southwest Louisiana National Wildlife Refuge Complex, which also includes the Cameron Prairie, Lacassine, and Sabine National Wildlife Refuges. Shell Keys Refuge's eight acres are in the offshore waters of the Louisiana Gulf Coast to the west of the Atchafalaya River Delta, and south of the Louisiana Department of Wildlife and Fisheries' Marsh Island Refuge, in Iberia Parish, Louisiana. Shell Keys Refuge is within the Lower Mississippi River Ecosystem in the Gulf of Mexico.

President Taft established Shell Keys Refuge on August 17, 1907, by Executive Order 682, to serve “* * * as a reserve and breeding ground for native birds.”

Shell Keys Refuge is one of the oldest refuges in the National Wildlife Refuge System. Its boundary was and still is rather loosely described as “* * *a small group of unsurveyed islets located in the Gulf of Mexico about three and one-half miles south of Marsh Island, Louisiana, and approximately in latitude 29 degrees 26 minutes north, longitude 91 degrees 51 minutes west from Greenwich.* * *” The boundary of the refuge has been interpreted to be those areas in this vicinity that are above mean high tide.

Shell Keys Refuge is a small group of islands that is subject to shell deposits and erosion, so the actual acreage above mean high water may, of course, be different at this time. How these islands change and move may affect ownership of that area lying above mean high water. Under certain circumstances, accreted areas above mean high water may belong to the State of Louisiana.

For a number of years, there has been only one islet at this location. This islet is composed almost entirely of shell fragments. It is extremely dynamic and builds or recedes with passing storms. Vegetation is almost entirely lacking. Species known to nest here include royal terns, sandwich terns, black skimmers, and laughing gulls. In addition, the islet is used at various times as a loafing area by white pelicans, brown pelicans, and various other species of terns and gulls. Recent hurricanes and storms have eroded the island to such an extent that no known nesting has occurred since 1992.

Public access to the refuge is limited due to its remoteness and the fact that it is accessible only by boat.

Significant issues addressed in the Draft CCP/EA include: Colonial nesting birds; endangered species; shorebirds; habitat restoration feasibility; cooperative management agreement with Louisiana Department of Wildlife and Fisheries (LDWF); law enforcement issues; visitor services (e.g., fishing, wildlife observation and photography, and environmental education and interpretation); and cultural resource protection.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

CCP Actions We Are Considering, Including Proposed Action

We developed three alternatives for managing the refuge and chose Alternative C as the proposed alternative. A full description of each alternative is in the Draft CCP/EA. We summarize each alternative below:

Alternative A: Current Management (No Action)

This is the “status quo” alternative in which current habitat, wildlife, and public use management would continue with no changes. On an annual basis, monitoring and trip report status are conducted. Periodically during winter migratory bird surveys, fly-over surveys are conducted to determine if the island is emergent. A cooperative law enforcement agreement will remain in effect with LDWF.

Alternative B: Custodial Cooperative Management

Under Alternative B, nature would be allowed to take its course regarding the future of the islands, with no restoration activities accomplished. If the islands fail to rebuild and continue to erode, areas available to birds may diminish. With the land area diminishing, the island would continue to support a reducing population of colonial nesting birds. Working with LDWF, routine and additional patrols would be provided in coordination with refuge law enforcement officers. Through the Southwest Louisiana National Wildlife Refuge Complex, interpretation would concentrate on the history of the formation and subsequent changes and erosion of the shell key shoal/island and reef complex habitat. Alternative B would open the refuge for public use by offering limited fishing and wildlife observation and photography.

Alternative C: Large-Scale Habitat Restoration and Cooperative Management Approach (Proposed Alternative)

Under Alternative C, our proposed alternative for Shell Keys Refuge, we would explore implementing large-scale restoration efforts in cooperation with partners. We would enter into a new cooperative agreement with the LDWF Fur and Refuge Division, focusing on natural resource monitoring and restoration as appropriate. Partners are necessary to supply expertise and funding for the daunting task of restoration. Feasibility studies would be performed to determine the costs associated with rebuilding and re-establishing the Shell Islands, or portions of the islands. Restoration efforts would adapt to changing conditions as practices and techniques are assessed. The refuge would be open to recreational fishing and wildlife observation and photography. Because the refuge is remote and few guests actually visit the islands, outreach would center around providing information in combination with the Southwest Louisiana National Wildlife Refuge Complex and on Internet web pages.

Public Availability of Comments

Before including your address, phone number, e-mail address, or other personal identifying information in your comment, you should be aware that your entire comment, including your personal identifying information, may be made publicly available at any time. While you can ask us in your comment to withhold your personal identifying information from public review, we cannot guarantee that we will be able to do so.

Next Step

After the comment period ends for the Draft CCP/EA, we will analyze the comments and address them in the form of a Final CCP and Finding of No Significant Impact.

Authority: This notice is published under the authority of the National Wildlife Refuge System Improvement Act of 1997, Public Law 105-57.

Dated: May 5, 2008.
Cynthia K. Dohner,
Acting Regional Director.

[FR Doc. E8-13313 Filed 6-12-08; 8:45 am]

BILLING CODE 4310-55-P